DEPARTMENT OF LABOR

Employment and Training Administration

[TA-W-53,309]

Candle Corporation, El Segundo, California; Dismissal of Application for Reconsideration

Pursuant to 29 CFR 90.18(C) an application for administrative reconsideration was filed with the Director of the Division of Trade Adjustment Assistance for workers at Candle Corporation, El Segundo, California. The application contained no new substantial information which would bear importantly on the Department's determination. Therefore, dismissal of the application was issued.

TA-W-53,309; Candle Corporation

El Segundo, California (February 10, 2004)

Signed at Washington, DC, this 17th day of February, 2004.
Timothy Sullivan,
Director, Division of Trade Adjustment Assistance.

[FR Doc. E4-383 Filed 2-24-04; 8:45 am]

BILLING CODE 4510-13-P